DEPARTMENT OF ENERGY

Federal Energy Regulatory Commission

[Docket No. CP02-94-000]

El Paso Natural Gas Company; Notice of Request Under Blanket Authorization

February 26, 2002.

Take notice that on February 21, 2002, El Paso Natural Gas Company (El Paso), P.O. Box 1087, Colorado Springs, Colorado 80944, filed in Docket No. CP02-94-000 a request pursuant to Sections 157.205 and 157.211(b) of the Commission's Regulations under the Natural Gas Act (18 CFR 157.205, 157.211(b)) for authorization to construct and operate a delivery point located in Pinal County Arizona, under El Paso's blanket certificates issued in Docket Nos. CP82-435-000 and CP88-433-000 pursuant to Section 7( c) of the Natural Gas Act, all as more fully set forth in the request.

Copies of this filing are on file with the Commission and are available for public inspection. This filing may also be viewed on the web at http://www.ferc.gov using the “Rims” link, select “Docket#” and follow the instructions (call 202-208-2222 for assistance).

El Paso states that the new delivery point will permit the interruptible transportation and delivery of natural gas for Abbott Laboratories L.L.C. (Abbott Labs). Abbott Labs, it is said, utilizes natural gas to fuel boilers in its manufacturing and processing plant located in Pinal County, Arizona. Abbott Labs, it is further said, has requested natural gas service directly from El Paso for its manufacturing and processing plant which is currently served by Southwest Gas Corporation.

El Paso asserts that El Paso's environmental analysis supports the conclusion that the construction and operation of the proposed delivery point will not be a major Federal action significantly affecting the human environment.

El Paso states that the construction and operation of the Abbott Labs delivery point is not prohibited by El Paso's existing Tariff . El Paso states further that the estimated cost of the proposed facilities is $195,150 and that Abbott Labs has agreed to reimburse El Paso for the cost of the construction.

Any questions regarding the application should be directed to Robert T. Tomlinson, Director, Regulatory Affairs Department, El Paso Natural Gas Company, P.O. Box 1087, Colorado Springs, Colorado 80904, phone: (719) 520-3788.

Any person or the Commission's staff may, within 45 days after issuance of the instant notice by the Commission, file pursuant to Rule 214 of the Commission's Procedural Rules (18 CFR 385.214) a motion to intervene or notice of intervention and, pursuant to Section 157.205 of the Regulations under the Natural Gas Act (18 CFR 157.205), a protest to the request. If no protest is filed within the time allowed therefor, the proposed activity shall be deemed to be authorized effective the day after the time allowed for filing a protest. If a protest is filed and not withdrawn within 30 days after the allowed for filing a protest, the instant request shall be treated as an application for authorization pursuant to Section 7 of the Natural Gas Act.

Comments, protests and interventions may be filed electronically via the Internet in lieu of paper. See, 18 CFR385.2001(a)(1)(iii) and the instructions on the Commission's web site under the “e-filing” link.

Linwood A. Watson, Jr.,
Deputy Secretary.

[FR Doc. 02-5055 Filed 3-1-02; 8:45 am]

BILLING CODE 6717-01-P